DEPARTMENT OF COMMERCE

National Oceanic and Atmospheric Administration

RIN 0648-XD781

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 118th Scientific and Statistical Committee (SSC), SSC sub-working group and its 162nd Council meeting to take actions on fishery management issues in the Western Pacific Region. The Council will also convene meetings of the Pelagic and International Standing Committee and Executive and Budget Standing Committee.

DATES: The SSC sub-working group will be held on Monday, March 9, between 1 p.m. and 4 p.m. The SSC meeting will be held between 8:30 a.m. and 5 p.m. on March 10-12, 2015. The Council's Pelagic and International Standing Committee meeting will be held between 1 p.m. and 3 p.m. on March 14, 2015; Executive and Budget Standing Committee meeting will be held between 3 p.m. and 5 p.m. on March 14, 2015; and the 162nd Council meeting will be held between 8:30 a.m. and 5 p.m. on March 16-18, 2015. In addition, the Council will host a Fishers Forum on March 17, 2015, between 6 p.m. and 9 p.m. For specific times and agendas, see SUPPLEMENTARY INFORMATION.

ADDRESSES: The SSC Sub-working group on March 9, 2015, 118th SSC on March 10-12, 2015, Pelagic and International Standing Committee and Executive and Budget Standing Committee on March 14, 2015 will be held at the Council office, 1164 Bishop Street, Suite 1400, Honolulu, HI 96813, telephone: (808) 522-8220;

The 162nd Council meeting on March 16-18, 2015 will be held at the Laniakea YWCA-Fuller Hall, 1040 Richards Street, Honolulu, HI 96813, telephone: (808) 538-7061; and

The Fishers Forum on March 17, 2015 will be held at the Harbor View Center, Pier 38, 1129 North Nimitz Highway, Honolulu, HI 96817, telephone: (808) 983-1200.

Background documents will be available from, and written comments should be sent to, Mr. Edwin Ebisui, Chair, Western Pacific Fishery Management Council, 1164 Bishop Street, Suite 1400, Honolulu, HI 96813, telephone: (808) 522-8220 or fax: (808) 522-8226.

FOR FURTHER INFORMATION CONTACT: Kitty M. Simonds, Executive Director; telephone: (808) 522-8220.

SUPPLEMENTARY INFORMATION: In addition to the agenda items listed here, the SSC and Council will hear recommendations from Council advisory groups. Public comment periods will be provided throughout the agendas. The order in which agenda items are addressed may change. The meetings will run as late as necessary to complete scheduled business.

Schedule and Agenda for the SSC Sub-Working Group

1. Welcome and Introductions

2. Approval of the Agenda

3. Main Hawaiian Island Deep 7 Bottomfish

A. Review of the Center for Independent Experts (CIE) review reports

B. Current status of stock assessments and Acceptable Biological Catch (ABC) specification

C. ABC specification for fishing year 2015-16

5. Public Comments

6. Discussion and Recommendations

Schedule and Agenda for 118th SSC Meeting

8:30 a.m., Tuesday, March 10, 2015

1. Introductions

2. Approval of Draft Agenda and Assignment of Rapporteurs

3. Status of the 117th SSC Meeting Recommendations

4. Report from the Pacific Islands Fisheries Science Center (PIFSC) Director

5. Insular Fisheries

A. Coral reef ecosystem stock assessments

1. Hawaii kumu

2. Hawaii parrotfish

B. Report on the Main Hawaiian Island (MHI) Deep 7 Bottomfish public scoping meeting

C. Report on PIFSC meeting with the Hawaii bottomfish fishermen

D. 2nd Bottomfish Research Coordination Workshop

E. Report on the Center for Independent Experts (CIE) review of the 2014 MHI Deep 7 Bottomfish Stock Assessment

F. NMFS actions on the MHI Bottomfish Annual Catch Limits (ACLs)

G. Public Comment

H. SSC Discussion and Recommendations

6. Program Planning

A. National Standards (NS) Guidelines Proposed Rule

B. NOAA Fisheries Draft Climate Science Strategy

C. Report on the National SSC Workshop V

D. Public Comment

E. SSC Discussion and Recommendations

8:30 a.m., Wednesday, March 11, 2015

7. Pelagic Fisheries

A. Hawaii Yellowfin and Bigeye Commercial Minimum Size Limit

1. Public Meetings

2. Socio-economic studies

3. Yield per Recruit Analyses

B. American Samoa Large Vessel Prohibited Area (LVPA) changes (Action Item)

C. Territorial Bigeye Specification (Action Item)

D. American Samoa longline U.S. Exclusive Economic Zone (EEZ) albacore catch limit (Action Item)

E. Social Capital, Ethnic Diversity, and Economic Outcome in Hawaii's Longline Fishery

E. International Fisheries

1. WCPFC 11th Regular Session

F. Public Comment

G. SSC Discussion and Recommendations

8. Protected Species

A. Endangered Species Act (ESA) Section 7 Consultations for Coral Species

B. Effectiveness of Management Measures Implemented under the False Killer Whale Take Reduction Plan

C. Draft 2014 Marine Mammal Stock Assessment Reports

D. False Killer Whale Stock Boundary Revision

E. Updates on ESA and Marine Mammal Protection Act (MMPA) Actions

1. ESA-listed Threatened Corals Post-Listing Activities

2. Green Turtle Status Review

3. North Pacific Humpback Whale Status Review

4. Other Relevant Actions

F. Public Comment

G. SSC Discussion and Recommendations

8:30 a.m., Thursday, March 12, 2015

9. Other Business

A. 119th SSC Meeting

10. Summary of SSC Recommendations to the Council

Schedule for Council Standing Committee Meetings

1 p.m.-3 p.m., Saturday, March 14, 2015

Pelagic and International Standing Committee

3 p.m.-5 p.m., Saturday, March 14, 2015

Executive and Budget Standing Committee

Schedule and Agenda for 162nd Council Meeting

8:30 a.m.-5 p.m., Monday, March 16, 2015

1. Welcome and Introductions

2. Approval of the 162nd Agenda

3. Approval of the 161st Meeting Minutes

4. Executive Director's Report

5. Agency Reports

A. National Marine Fisheries Service

1. Pacific Islands Regional Office

2. Pacific Islands Fisheries Science Center

B. NOAA Office of General Counsel, Pacific Islands Section

C. U.S. Fish and Wildlife Service

D. Enforcement

1. U.S. Coast Guard

2. NOAA Office of Law Enforcement

3. NOAA Office of General Counsel, Enforcement Section

E. Public Comment

F. Council Discussion and Action

6. Program Planning and Research

A. National Standards Guidelines Proposed Rule

B. Report on the National SSC Workshop V

C. Report on the Fishery Ecosystem Plan Review by Council Family and Public

D. NOAA Fisheries Draft Climate Science Strategy

E. Fisheries Internship and Student Help Project

F. Regional, National and International Outreach & Education

G. Advisory Group Reports and Recommendations

1. Marine Planning and Climate Change Committee

H. Social Science Reports

1. Report on the Regional Fishery Management Council's Social Science Meeting

I. Advisory Panel Recommendations

J. SSC Recommendations

K. Public Comment

L. Council Discussion and Action

8:30 a.m.-5 p.m., Tuesday, March 17, 2015

7. American Samoa Archipelago

A. Motu Lipoti

B. Fono Report

C. Enforcement Issues

D. Community Activities and Issues

1. Report on the Governor's Fisheries Committee

2. Fisheries Development

a. Fish Market Dedication

b. Tri Marine/Samoa Tuna Processors Grand Opening of Canning Ops

3. Marine Recreational Improvement Program (MRIP) & Territorial Science Initiative (TSI) updates

E. Education and Outreach Initiatives

1. American Samoa (AS) lunar calendar completion

2. AS summer high school fisheries & marine resource management course

3. TSI Seafood vendors forum

4. MRIP Fishermen Forum

5. Manu'a Outreach Project Summary

F. Advisory Panel Recommendations

G. SSC Recommendations

H. Public Comment

I. Council Discussion and Action

8. Hawaii Archipelago & Pacific Remote Island Areas (PRIA)

A. Moku Pepa

B. Legislative Report

C. Enforcement

D. Main Hawaiian Islands Bottomfish

1. PIFSC meeting with MHI Bottomfish Fishermen

2. Report on the CIE review of the 2014 MHI Deep 7 Bottomfish Stock Assessment

3. Report on 2nd Hawaii Bottomfish Research Workshop

4. Report on Public Scoping Meetings

E. Community Projects, Activities and Issues

1. Fish Processing Waste—A Valuable co-product from Hawaii Fisheries

2. Hawaii Community Fish Aggregating Devices (FADS)

3. Outreach and Education Report

4. Lahaina Marine Planning Project

5. Report on West Hawai`i Habitat Blueprint Focus Area

F. Hawaiian Islands Humpback Whale National Marine Sanctuary

G. Advisory Panel Recommendations

H. SSC Recommendations

I. Public Comment

J. Council Discussion and Action

9. Protected Species

A. ESA Listed Corals

1. Section 7 Consultations for Coral Species

2. Advanced Notice of Proposed Rulemaking on 4(d) Take Prohibition for Corals

3. Other Relevant Actions

B. Effectiveness of Management Measures Implemented under the False Killer Whale Take Reduction Plan

C. Draft 2014 Marine Mammal Stock Assessment Reports

D. Updates on ESA and MMPA Actions

1. Green Turtle Status Review

2. North Pacific Humpback Whale Status Review

3. Other Relevant Actions

E. ESA Section 7 Integration Policy Directive

F. Managing Green Turtles under the Council's Archipelagic Fishery Ecosystem Plans

G. Advisory Panel Recommendations

H. SSC Recommendations

I. Public Comment

J. Council Discussion and Action

10. Public Comment on Non-agenda Items

6 p.m.-9 p.m., Tuesday, March 17, 2015

Fishers Forum, Stock Assessment

8:30 a.m.-5 p.m., Wednesday, March 18, 2015

11. Mariana Archipelago

A. Guam

1. Isla Informe

2. Legislative Report

3. Enforcement Issues

4. Community Activities and Issues

a. Update on Malesso Community-Based Management Plan (CBMP) implementation

b. Report on Village of Yigo CBMP meeting

c. Report on Manell-Geus Habitat Blueprint Focus Area

d. Report on Indigenous Fishing Rights Initiatives

e. Report on the Guam fishing conflict

B. Commonwealth of Northern Mariana Islands

1. Arongol Falú

2. Legislative Report

3. Enforcement Issues

4. Community Activities and Issues

a. Report on Northern Islands CBMP meeting

b. Report on CNMI Joint Military Training Environmental Impact Study (EIS)

5. Education and Outreach

a. Radio Talk Show

C. Marianas Trench Marine National Monument: Islands, Volcanic, and Trench Units

D. Advisory Panel Recommendations

E. SSC Recommendations

F. Public Comment

G. Council Discussion and Action

12. Pelagic & International Fisheries

A. Hawaii Yellowfin and Bigeye Commercial Minimum Size Limit

1. Public Meetings

2. Socio-economic Considerations

B. American Samoa Large Vessel Prohibited Area Temporary Exemption (Action Item)

C. American Samoa longline EEZ albacore catch limit (Action Item)

D. Territory Longline Bigeye Specification (Action Item)

E. Report on Illegal, Unreported and Unregulated (IUU) and Seafood Labeling

F. International Fisheries

1. WCPFC 11th Regular Session

G. Advisory Panel Recommendations

H. SSC Recommendations

I. Standing Committee Recommendations

J. Public Hearing

K. Council Discussion and Recommendations

13. Administrative Matters

A. Financial Reports

B. Administrative Reports

C. Council Family Changes

1. Advisory Panel Changes

2. Plan Team Changes

D. Meetings and Workshops

E. Other Business

F. Standing Committee Recommendations

G. Public Comment

H. Council Discussion and Action

14. Other Business

Non-Emergency issues not contained in this agenda may come before the Council for discussion and formal Council action during its 162nd meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 18, 2015.
Tracey L. Thompson,
Acting Deputy Director, Office of Sustainable Fisheries, National Marine Fisheries Service.

[FR Doc. 2015-03556 Filed 2-20-15; 8:45 am]

BILLING CODE 3510-22-P